DEPARTMENT OF HEALTH AND HUMAN SERVICES

Health Resources and Services Administration

Notice of Supplemental Award; Infant-Toddler Court Program—State Awards

AGENCY: Health Resources and Services Administration (HRSA), Department of Health and Human Services.

ACTION: Notice of supplemental award.

SUMMARY: HRSA is providing supplemental award funds to the current Infant-Toddler Court Program (ITCP)—State Awards recipients in federal fiscal year (FY) 2024 to support the continuation and expansion of existing activities to build state and local capacity and implement the infant-toddler court approach.

FOR FURTHER INFORMATION CONTACT: Kateryna Zoubak, Early Childhood Systems Analyst, Division of Home Visiting and Early Childhood Systems, Maternal and Child Health Bureau, HRSA, at ezoubak@hrsa.gov or 240-475-8014.

SUPPLEMENTARY INFORMATION:

Intended Recipient(s) of the Award: All 12 current recipients of the ITCP—State Awards, as listed in table 1.

Amount of Non-Competitive Supplemental Award(s): 12 awards totaling approximately $2.7 million.

Project Period: September 30, 2022, to September 29, 2027.

Assistance Listing (CFDA) Number: 93.110.

Award Instrument: Non-competitive supplements to cooperative agreements.

Authority: 42 U.S.C. 701(a)(2) (title V, sec. 501(a)(2) of the Social Security Act)).

Table 1—Recipients and Award Amounts
Grant No. | Award recipient name | State | Award amount
U2ZMC46643 | Prevent Child Abuse Arizona | AZ | $242,921
U2ZMC52975 | Illuminate Colorado, Inc | CO | 243,000
U2ZMC46638 | Georgia State University Research Foundation, Inc | GA | 243,000
U2ZMC46644 | Iowa Department of Public Health | IA | 243,000
U2ZMC46639 | Michigan Department of Health and Human Services | MI | 242,235
U2ZMC46636 | Nevada Division of Child & Family Services | NV | Declined
U2ZMC46642 | Passaic County Court Appointed Special Advocates, A New Jersey Nonprofit Corporation | NJ | 243,000
U2ZMC46640 | Justice Innovation Inc., d/b/a Center for Court Innovation | NY | 243,000
U2ZMC46637 | Educational Service Center of Cuyahoga County | OH | 243,000
U2ZMC46641 | Oklahoma Department of Mental Health and Substance Abuse Services | OK | 243,000
U2ZMC46635 | Children's Center | UT | 242,999
U2ZMC46634 | Children and Youth Justice Center | WA | 243,000

Justification: The FY 2023 and 2024 appropriations for Maternal and Child Health Block Grant Special Projects of Regional and National Significance increased funding for the ITCP, compared to the FY 2022 enacted level. A Congressional Report accompanying the Further Consolidated Appropriations Act, 2024 (Pub. L. 118-47) designated funding “to continue and expand research-based Infant-Toddler Court Teams to change child welfare practices to improve wellbeing for infants, toddlers, and their families” (Senate Report 118-84). Consistent with Congressional intent, HRSA plans to use this funding to continue, enhance, and expand teams currently funded by ITCP State Awards (HRSA-22-073). Supplemental awards will be used for project activities within the scope of the current ITCP—State Awards funding opportunity (HRSA-22-073). HRSA is awarding a total of approximately $2.7 million to the 12 current ITCP—State Award recipients noted in table 1. Supplemental funding for similar activities may be considered in future years, depending on availability of funding for the activity and satisfactory performance.

Carole Johnson,
Administrator.

[FR Doc. 2024-18459 Filed 8-16-24; 8:45 am]

BILLING CODE 4165-15-P